ENVIRONMENTAL PROTECTION AGENCY

[ER-FRL-9020-3]

Environmental Impact Statements; Notice of Availability

Responsible Agency: Office of Federal Activities, General Information (202) 564-7146 or http://www.epa.gov/compliance/nepa/.

Weekly receipt of Environmental Impact Statements

Filed 03/23/2015 Through 03/27/2015

Pursuant to 40 CFR 1506.9.

Notice

Section 309(a) of the Clean Air Act requires that EPA make public its comments on EISs issued by other Federal agencies. EPA's comment letters on EISs are available at: http://www.epa.gov/compliance/nepa/eisdata.html.

EIS No. 20150083, Final EIS, USFS, AK, Resurrection Creek Phase II: Stream and Riparian Restoration Project and Hope Mining Company Proposed Mining Plan of Operations, Review Period Ends: 05/04/2015, Contact: Karen Kromrey 907-288-7745.

EIS No. 20150084, Final EIS, NPS, CA, Sequoia and Kings Canyon National Parks Wilderness Stewardship Plan, Review Period Ends: 05/04/2015, Contact: Nancy Hendricks 559-565-3102.

EIS No. 20150085, Final EIS, FTA, WA, Lynnwood Link Extension, Review Period Ends: 05/04/2015, Contact: Daniel Drais 206-220-4465

EIS No. 20150086, Final EIS, USN, CA, Naval Base Coronado Coastal Campus, Review Period Ends: 05/04/2015, Contact: Teresa Bresler 619-556-7315.

EIS No. 20150087, Draft EIS, USFS, ID, Johnson Bar Fire Salvage, Comment Period Ends: 05/18/2015, Contact: Mike Ward 208-926-6413.

EIS No. 20150088, Draft EIS, USMC, 00, Commonwealth of the Northern Mariana Islands (CJMT) Joint Military Training, Comment Period Ends: 06/02/2015, Contact: Lori Robertson 808-472-1409.

EIS No. 20150089, Draft EIS, NIH, MD, NIH Chilled Water System Improvements, Comment Period Ends: 06/05/2015, Contact: Mark Radtke 301-451-6467.

EIS No. 20150090, Draft EIS, FTA, VA, Potomac Yard Metrorail Station, Comment Period Ends: 05/18/2015, Contact: Melissa Barlow. 202-219-3565.

EIS No. 20150091, Final EIS, CALTRANS, CA, San Diego Freeway (I-405) Improvement Project, Review Period Ends: 05/04/2015, Contact: Smita Deshpande 949-724-2000.

Amended Notices

EIS No. 20150062, Draft EIS, USFS, CA, Westside Fire Recovery Project, Comment Period Ends: 04/27/2015, Contact: Wendy Coats 530-841-4470.

Dated: March 31, 2015.
Cliff Rader,
Director, NEPA Compliance Division, Office of Federal Activities.

[FR Doc. 2015-07787 Filed 4-2-15; 8:45 am]

BILLING CODE 6560-50-P